DEPARTMENT OF TRANSPORTATION

Federal Aviation Administration

14 CFR Part 39

[Docket No. 2002-NM-60-AD; Amendment 39-13306; AD 2003-19-03]

RIN 2120-AA64

Airworthiness Directives; Dornier Model 328-100 and -300 Series Airplanes

AGENCY: Federal Aviation Administration, DOT.

ACTION: Final rule.

SUMMARY: This amendment adopts a new airworthiness directive (AD), applicable to certain Dornier Model 328-100 and -300 series airplanes, that requires inspection of the nose landing gear (NLG) and main landing gear (MLG) to ensure that certain bolts are in place; repetitive inspections of the bolts and bolt areas for evidence of corrosion; and corrective action, if necessary. This action is necessary to prevent failure of the NLG or MLG due to corroded or missing bolts, which could cause loss of connection pins, and consequent collapse of the landing gear during ground maneuvers or upon landing. This action is intended to address the identified unsafe condition.

DATES: Effective October 27, 2003.

The incorporation by reference of certain publications listed in the regulations is approved by the Director of the Federal Register as of October 27, 2003.

ADDRESSES: The service information referenced in this AD may be obtained from AvCraft Aerospace GmbH, P.O. Box 1103, D-82230 Wessling, Germany. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Tom Groves, Aerospace Engineer, International Branch, ANM-116, FAA, Transport Airplane Directorate, 1601 Lind Avenue, SW., Renton, Washington 98055-4056; telephone (425) 227-1503; fax (425) 227-1149.

SUPPLEMENTARY INFORMATION: A proposal to amend part 39 of the Federal Aviation Regulations (14 CFR part 39) to include an airworthiness directive (AD) that is applicable to certain Dornier Model 328-100 and -300 series airplanes was published in the Federal Register on July 9, 2003 (68 FR 40831). That action proposed to require inspection of the nose landing gear (NLG) and main landing gear (MLG) to ensure that certain bolts are in place; repetitive inspections of the bolts and bolt areas for evidence of corrosion; and corrective action, if necessary.

Comments

Interested persons have been afforded an opportunity to participate in the making of this amendment. No comments were submitted in response to the proposal or the FAA's determination of the cost to the public.

Conclusion

We have determined that air safety and the public interest require the adoption of the rule as proposed.

Changes to 14 CFR Part 39/Effect on the AD

On July 10, 2002, we issued a new version of 14 CFR part 39 (67 FR 47997, July 22, 2002), which governs the FAA's airworthiness directives system. The regulation now includes material that relates to altered products, special flight permits, and alternative methods of compliance. However, for clarity and consistency in this final rule, we have retained the language of the NPRM regarding that material.

Change to Labor Rate Estimate

We have reviewed the figures we have used over the past several years to calculate AD costs to operators. To account for various inflationary costs in the airline industry, we find it necessary to increase the labor rate used in these calculations from $60 per work hour to $65 per work hour. The cost impact information, below, reflects this increase in the specified hourly labor rate.

Cost Impact

We estimate that 53 Model 328-100 series airplanes and 39 Model 328-300 series airplanes of U.S. registry will be affected by this AD, that it will take approximately 1 work hour per airplane to accomplish the required inspection for bolt placement, and that the average labor rate is $65 per work hour. Based on these figures, the cost impact of the AD on U.S. operators is estimated to be $5,980, or $65 per airplane.

We estimate that it will take approximately 5 work hours per airplane to accomplish the required inspection for corrosion, and that the average labor rate is $65 per work hour. Based on these figures, the cost impact on U.S. operators for the required inspection for corrosion is estimated to be $29,900, or $325 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2003-19-03 Fairchild Dornier GMBH (Formerly Dornier Luftfahrt GmbH): Amendment 39-13306. Docket 2002-NM-60-AD.

Applicability: Model 328-100 series airplanes having serial numbers 3005 through 3119 inclusive, and Model 328-300 series airplanes having serial numbers 3105 through 3200 inclusive; certificated in any category.

Compliance: Required as indicated, unless accomplished previously.

To prevent failure of the nose landing gear (NLG) or main landing gear (MLG) due to corroded or missing bolts, which could cause loss of connection pins, and consequent collapse of the landing gear during ground maneuvers or upon landing, accomplish the following:

Service Bulletin Reference

(a) The term “service bulletin,” as used in this AD, means the Accomplishment Instructions of the following service bulletins, as applicable:

(1) For Model 328-100 series airplanes: Dornier Service Bulletin SB-328-32-414, dated December 3, 2001.

(2) For Model 328-300 series airplanes: Dornier Service Bulletin SB-328J-32-147, dated December 3, 2001.

Inspection of Bolt Placement

(b) Perform a one-time general visual inspection of the NLG and MLG to ensure that the bolts are in place, per paragraph 2.B1) of the applicable service bulletin. Do the inspection at the later of the times specified in paragraphs (b)(1) and (b)(2) of this AD. If all bolts are in place, no further action is required by this paragraph.

Note 1: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

(1) Within 4,000 total flight hours, or within 24 months since the date of issuance of the original Airworthiness Certificate, or within 24 months since the date of issuance of the Export Certificate of Airworthiness, whichever occurs first.

(2) Within 6 days after the effective date of this AD.

Corrective Action

(c) During the inspection required by paragraph (b) of this AD, if any bolt is missing or is not in position: Prior to further flight, replace the bolt with a bolt having the same part number, per the applicable service bulletin.

Inspections for Corrosion

(d) Within 400 flight hours or 6 months after accomplishing the inspection required by paragraph (b) of this AD, whichever occurs first: Remove the nuts, bolts, and washers of the NLG and MLG, and perform a detailed inspection for evidence of corrosion. Do the inspection per the applicable service bulletin. Repeat the inspection thereafter at intervals not to exceed 4,000 flight hours or 24 months, whichever occurs first.

Note 2: For the purposes of this AD, a detailed inspection is defined as: “An intensive visual examination of a specific structural area, system, installation, or assembly to detect damage, failure, or irregularity. Available lighting is normally supplemented with a direct source of good lighting at intensity deemed appropriate by the inspector. Inspection aids such as mirror, magnifying lenses, etc., may be used. Surface cleaning and elaborate access procedures may be required.”

(1) If no evidence of corrosion is found on any part, or if a new bolt is installed: Prior to further flight, apply corrosion prevention compound to the bolt shaft and install the bolt, per the applicable service bulletin.

(2) If any evidence of corrosion is found: Prior to further flight, replace the bolt with a part having the same part number and apply corrosion prevention compound to the bolt shaft and install the bolt, per the applicable service bulletin.

Alternative Methods of Compliance

(e) In accordance with 14 CFR 39.19, the Manager, International Branch, ANM-116, FAA, is authorized to approve alternative methods of compliance for this AD.

Incorporation by Reference

(f) The actions shall be done in accordance with Dornier Service Bulletin SB-328-32-414, dated December 3, 2001; or Dornier Service Bulletin SB-328J-32-147, dated December 3, 2001; as applicable. This incorporation by reference was approved by the Director of the Federal Register in accordance with 5 U.S.C. 552(a) and 1 CFR part 51. Copies may be obtained from AvCraft Aerospace GmbH, P.O. Box 1103, D-82230 Wessling, Germany. Copies may be inspected at the FAA, Transport Airplane Directorate, 1601 Lind Avenue SW, Renton, Washington; or at the Office of the Federal Register, 800 North Capitol Street, NW., suite 700, Washington, DC.

Note 3: The subject of this AD is addressed in German airworthiness directives 2002-014/2 and 2002-015/2, both dated March 7, 2002.

Effective Date

(g) This amendment becomes effective on October 27, 2003.

Issued in Renton, Washington, on September 11, 2003.
Vi L. Lipski,
Manager, Transport Airplane Directorate, Aircraft Certification Service.

[FR Doc. 03-23672 Filed 9-18-03; 12:01 pm]

BILLING CODE 4910-13-U